DEPARTMENT OF THE INTERIOR

Bureau of Land Management

Notice of Proposed Reinstatement of Terminated Oil and Gas Lease, UTU76247

December 20, 2005.

AGENCY: Bureau of Land Management, Interior.

ACTION: Notice.

SUMMARY: Under the provisions of section 371(a) of the Energy Policy Act of 2005, the lessee, Energy Minerals, Inc., timely filed a petition for reinstatement of oil and gas lease UTU76247 in Uintah County, Utah. The lessee paid the required rental accruing from the date of termination, April 1, 2002.

No leases were issued that affect these lands. The lessee agrees to new lease terms for rentals and royalties of $5 per acre and 16⅔ percent. The lessee paid the $500 administration fee for the reinstatement of the lease and $155 cost for publishing this Notice.

The lessee met the requirements for reinstatement of the lease per section 31(e) of the Mineral Leasing Act of 1920 (30 U.S.C. 188(e)). We are proposing to reinstate the lease, effective the date of termination subject to:

• The original terms and conditions of the lease;

• The increased rental of $5 per acre;

• The increased royalty of 16⅔ percent; and

• The $155 cost of publishing this Notice.

FOR FURTHER INFORMATION CONTACT: David H. Murphy, Acting Chief, Branch of Fluid Minerals at (801) 539-4122.

David H. Murphy,
Acting Chief, Branch of Fluid Minerals.

[FR Doc. E5-7760 Filed 12-22-05; 8:45 am]

BILLING CODE 4310-DK-P